DEPARTMENT OF THE INTERIOR

Bureau of Land Management

[PO4820000251]

Notice of Segregation of Public Land for the Bonanza Solar Project, Clark County, NV

AGENCY: Bureau of Land Management, Interior.

ACTION: Notice of segregation.

SUMMARY: Through this notice the Bureau of Land Management (BLM) is segregating public lands for the Bonanza Solar Project right-of-way application from appropriation under the public land laws, including the Mining Law, but not the Mineral Leasing or Material Sales Acts, for a period of 2 years from the date of publication of this notice, subject to valid existing rights. This segregation is to allow for the orderly administration of the public lands to facilitate the consideration of development of renewable energy resources. The public lands segregated by this notice total 6,239 acres.

DATES: This segregation for the lands identified in this notice is effective on January 8, 2025.

FOR FURTHER INFORMATION CONTACT: For further information, and/or to have your name added to the mailing list, send requests to: Katy Paiva, Project Manager, at telephone 775-861-6723; 1340 Financial Boulevard, Reno, NV 89502; or email kpaiva@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: Regulations found at 43 CFR 2091.3-1(e) and 43 CFR 2804.25(f) allow the BLM to temporarily segregate public lands within a right-of-way application area for solar energy development from the operation of the public land laws, including the Mining Law, by publication of a Federal Register notice. The BLM uses this temporary segregation authority to preserve its ability to approve, approve with modifications, or deny proposed rights-of-way, and to facilitate the orderly administration of the public lands. This temporary segregation is subject to valid existing rights. Licenses, permits, cooperative agreements, or discretionary land use authorizations of a temporary nature that would not impact lands identified in this notice may be allowed with the approval of an authorized officer of the BLM during the segregation period. The lands segregated under this notice are legally described as follows:

Mount Diablo Meridian, Nevada

T. 16 S., R. 54 E.,

Sec. 12, S½NE¼SE¼, SE¼NW¼SE¼, E½SW¼SE¼, and SE¼SE¼;

Sec. 13, NE¼NE¼, E½NW¼NE¼, E½SW¼NE¼, SE¼NE¼, N½NE¼SE¼, and NE¼NW¼SE¼.

T. 16 S., R. 55 E.,

Sec. 7, lots 3 and 4, S½NE¼SW¼, SE¼SW¼, SW¼NW¼SE¼, and S½SE¼;

Sec. 8, S½SW¼, S½SW¼SE¼, and S½SE¼SE¼;

Sec. 9, S½SW¼SW¼, NE¼SE¼SW¼, S½SE¼SW¼, and S½SE¼;

Sec. 10, S½NE¼SW¼, S½NW¼SW¼, S½SW¼, S½NE¼SE¼, S½NW¼SE¼, and S½SE¼;

Sec. 11, SE¼SW¼NE¼, S½SE¼NE¼, and S½;

Sec. 12, S½SW¼NW¼, S½SE¼NW¼, and SW¼;

Sec. 13, W½;

Secs. 14 thru 17;

Sec. 18, lots 1 thru 3, NE¼, E½NW¼, NE¼SW¼, NE¼SE¼SW¼, N½SE¼, N½SW¼SE¼, N½SE¼SE¼, and SE¼SE¼SE¼;

Sec. 19, NE¼NE¼NE¼;

Sec. 20, N½NE¼, NE¼SW¼NE¼, N½SE¼NE¼, N½NE¼NW¼, SE¼NE¼NW¼, and N½NW¼NW¼;

Sec. 21, NE¼, N½NW¼, N½SW¼NW¼, SE¼SW¼NW¼, SE¼NW¼, NE¼NE¼SW¼, N½NE¼SE¼, and N½NW¼SE¼;

Sec. 22, N½, N½NE¼SW¼, N½NW¼SW¼, N½NE¼SE¼, and N½NW¼SE¼;

Sec. 23, N½, N½NE¼SW¼, N½NW¼SW¼, N½NE¼SE¼, and N½NW¼SE¼;

Sec. 24, NW¼, N½NE¼SW¼, and N½NW¼SW¼.

The area described contains 6,458.56 acres, according to the official plats of the surveys of the said lands, on file with the BLM.

As provided in the regulations, the segregation of lands in this notice will not exceed 2 years from the date of publication unless extended for an additional 2 years through publication of a new notice in the Federal Register. The segregation period will terminate and the land will automatically reopen to appropriation under the public land laws, including the mining laws, at the earliest of the following dates: upon issuance of a decision by the authorized officer granting, granting with modifications, or denying the application for a right-of-way; without further administrative action at the end of the segregation provided for in the Federal Register notice initiating the segregation; or upon publication of a Federal Register notice terminating the segregation.

Upon termination of the segregation of these lands, all lands subject to this segregation would automatically reopen to appropriation under the public land laws, including the mining laws.

Authority: 43 CFR 2091.3-1(e) and 43 CFR 2804.25(f)

Bruce Sillitoe,
Field Manager—Las Vegas Field Office.

[FR Doc. 2025-00199 Filed 1-7-25; 8:45 am]

BILLING CODE 4310-HC-P